UNITED STATES INSTITUTE OF PEACE

Notice of Board of Directors Meeting

AGENCY: United States Institute of Peace (USIP) and Endowment of the United States Institute of Peace.

ACTION: Announcement of meeting.

SUMMARY: Meeting of the Board of Directors: Chair's Report; Vice Chair's Report; President's Report; Approval of Minutes; USIP Key Current Initiatives: Ethiopia; Afghanistan and Pakistan; Strategic Stability; and Youth; Reports from USIP Board Committees: Governance and Compliance; Strategy and Program; Audit and Finance; Security and Facilities; and Talent and Culture.

DATES: Friday, January 21, 2022 (10:00 a.m.-12:00 p.m.).

ADDRESSES: Virtual Board Meeting Information: Join by video: Join ZoomGov Meeting https://usip-org.zoomgov.com/j/1617695522?pwd=dzMwNWFCbzJGZHlPOGZzUk15TjNBZz09; Meeting ID: 161 769 5522; Passcode: 249160.

FOR FURTHER INFORMATION CONTACT: Megan O'Hare, 202-429-4144, mohare@usip.org.

SUPPLEMENTARY INFORMATION: Open Session—Portions may be closed pursuant to Subsection (c) of Section 552(b) of Title 5, United States Code, as provided in subsection 1706(h)(3) of the United States Institute of Peace Act, Public Law 98-525.

Authority: 22 U.S.C. 4605(h)(3).

Dated: January 10, 2022.
Megan O'Hare,
Chief of Staff.

[FR Doc. 2022-00921 Filed 1-18-22; 8:45 am]

BILLING CODE 6820-AR-P